DEPARTMENT OF HOMELAND SECURITY

Security of Aircraft and Safety of Passengers Departing From Airports From Venezuela to the United States

AGENCY: Department of Homeland Security.

ACTION: Notice.

SUMMARY: This document informs the public that the Department of Homeland Security (DHS) is unable to determine whether international airports in Venezuela that serve as the last point of departure for non-stop flights to the United States maintain and carry out effective aviation security measures. Since the Government of Venezuela has refused multiple requests to allow assessments of its airports by the Transportation Security Administration (TSA), DHS can no longer verify the security of its airports. As authorized by statute, DHS is directing all U.S. and foreign air carriers (and their agents) providing service between the United States and Venezuelan airports, to provide notice to any passenger purchasing a ticket for transportation between the United States and these airports that DHS is unable to determine whether such airports maintain and carry out effective security measures. DHS is also requiring that similar notices be posted at U.S. airports.

FOR FURTHER INFORMATION CONTACT: Richard Stein, Office of Global Strategies, International Operations, TSA-38, Transportation Security Administration, 601 South 12th Street, Arlington, VA 22202-4220, telephone: (571) 227-3239, e-mail: Richard.Stein@dhs.gov.

Notice

Pursuant to 49 U.S.C. 44907(a), the Secretary of Homeland Security (the Secretary) is required to assess periodically the effectiveness of the security measures maintained by foreign airports that are served by U.S carriers, from which foreign air carriers serve the United States, that may pose a “high risk of introducing danger to international air travel,” or other airports deemed appropriate by the Secretary. If the Secretary determines that a foreign airport does not maintain and carry out effective security measures, the Secretary is required to “notify the appropriate authorities of the government of the foreign country of the decision and recommend the steps necessary to bring the security measures up to a standard used in making the assessment.” 49 U.S.C. 44907(c).

Further, the Secretary must: (a) Publish the identity of the foreign airport in the Federal Register, (b) post the identity of such airport at all U.S. airports that regularly provide scheduled air carrier operations, and (c) notify the news media of the identity of the airport. 49 U.S.C. 44907(d). In addition, the statute requires all air carriers providing service between the United States and the airport to provide written notice of the determination, either on or with the ticket, to all passengers purchasing transportation between the United States and the airport. 49 U.S.C. 44907(d)(1)(B).

On August 8, 2008, the Secretary notified the Government of Venezuela that DHS could not determine whether Venezuelan airports that serve as the last point of departure for non-stop flights to the United States maintain and carry out effective security measures. This notification was made because the Government of Venezuela has not permitted the Transportation Security Administration (TSA) to conduct assessments of the security measures maintained and carried out at these airports, using the security standards and appropriate recommended practices established by the International Civil Aviation Organization (ICAO) as the basis for analysis.

The Department of Homeland Security (DHS) is issuing this document pursuant to 49 U.S.C. 114, to inform the public that DHS is unable to determine whether such airports maintain and carry out effective security measures. DHS directs that all U.S. airports with regularly scheduled air carrier operations prominently post a notice displaying this information. Further, DHS is notifying the news media of this decision to provide public notification. In addition, DHS is requiring that each U.S. and foreign air carrier (and their agents) providing transportation between the United States and these Venezuelan airports provide notice of this information to each passenger buying a ticket for transportation between the United States and these airports, with such notice to be made by written material included on or with such ticket.

Issued in Washington, DC, on September 8, 2008.
Michael Chertoff,
Secretary.

[FR Doc. E8-21224 Filed 9-11-08; 8:45 am]

BILLING CODE 9110-05-P